DEPARTMENT OF TRANSPORTATION

Federal Transit Administration

Alternatives Analysis/Draft Environmental Impact Statement on the North/Southeast Corridor Project in Jacksonville, Duval County and St. Johns County, Florida

AGENCY: Federal Transit Administration, DOT.

ACTION: Notice of intent to prepare an alternatives analysis/draft environmental impact statement (AA/DEIS).

SUMMARY: The Federal Transit Administration (FTA), the Jacksonville Transportation Authority (JTA), and the Florida Department of Transportation (FDOT) intend to prepare an Alternatives Analysis/Draft Environmental Impact Statement (AA/DEIS) in accordance with the National Environmental Policy Act of 1969 (NEPA), as amended, to evaluate transportation improvements within a corridor known as the North/Southeast Corridor in Duval and St. Johns County, Florida, within the metropolitan area of Jacksonville, Florida. The lead agencies will also seek the cooperation of the Federal Highway Administration (FHWA), Federal Railroad Administration (FRA), and the Federal Aviation Administration (FAA) in conducting this review. The AA/DEIS will examine strategies to improve mobility and access in the corridor from Jacksonville International Airport through downtown Jacksonville and continuing south to County Road 210. The AA/DEIS will develop alternatives for the corridor which will (1) preserve and enhance mobility within the corridor; (2) support economic development opportunities planned within the corridor; (3) minimize adverse transportation related impacts to the environment; (4) improve the efficiency of existing facilities; (5) provide cost effective transportation improvements; and (6) identify and encourage land use development policies that promote more efficient use of infrastructure. The AA/DEIS will evaluate a No-Build Alternative, a Transportation Systems Management/Traffic Demand Management Alternative (TSM/TDM), several Build Alternatives, and any additional alternatives generated by the scoping process. The TSM/TDM Alternative will include enhanced bus service and facilities and technology and programs to increase the effectiveness of the existing transportation infrastructure to meet the transportation needs of the North/Southeast Corridor. The Build Alternatives will consider Busway/Bus Rapid Transit (BRT), Light Rail Transit (LRT), Commuter Rail, Streets and Highways, and combinations of these modes, as well as other reasonable alternatives suggested through the scoping process. The type, location, and need for ancillary facilities, such as maintenance facilities, will also be considered for each alternative. Scoping will be accomplished through meetings and correspondence with interested persons, organizations, the general public, and Federal, State, regional, and local agencies.

DATES: Comment Due Date: Written comments on the scope of the alternatives and impacts to be considered should be submitted to Mr. Edward Castellani, Rapid Transit Project Manager, Jacksonville Transportation Authority, Post Office Drawer O, Jacksonville, FL 32203 by April 30, 2001.

Scoping Meetings: Public scoping meetings for the North/Southeast Corridor Project AA/DEIS will be held on:

Wednesday, March 28, 2001, 5:30 p.m. to 8:30 p.m., 5188 Norwood Avenue, Gateway Mall, Room 15, Jacksonville, Florida 32206

Monday April 2, 2001, 5:30 p.m. to 8 p.m., Southeast Regional Library, 10599 Deerwood Park Boulevard, Jacksonville, Florida 32256

In advance of either scoping meeting, persons with special needs should contact Ms. Winova Hart, Project Coordinator, Jacksonville Transportation Authority, Post Office Drawer O, Jacksonville, Florida, 32203. Telephone: (904) 630-3181. Scoping materials will be available at the meetings and may also be obtained in advance of the meetings by contacting Mr. Edward Castellani at the address below or calling project staff at (904) 630-3181. Oral and written comments may be given at the scoping meetings. If you wish to be placed on the mailing list to receive further information as the project develops, contact Mr. Edward Castellani at the address below or call the project staff at (904) 630-3181.

ADDRESSES: Written comments on the project scope should be sent to Mr. Edward Castellani, Rapid Transit Project Manager, Jacksonville Transportation Authority, Post Office Drawer O, Jacksonville, FL 32203. Scoping meetings will be held at the locations identified above in the DATES section.

FOR FURTHER INFORMATION CONTACT: Mr. Edward Castellani, Rapid Transit Project Manager, Jacksonville Transportation Authority, Post Office Drawer O, Jacksonville, Florida, 32203. Telephone: (904) 630-3181. You may also contact Mr. Derek Scott, Community Planner, Federal Transit Administration, Region IV, 61 Forsyth Street, SW, Suite 17T50, Atlanta, Georgia 30303. Telephone: (404) 562-3500.

SUPPLEMENTARY INFORMATION:

I. Scoping

The FTA, JTA, and FDOT invite all interested individuals and organizations, and federal, state, regional, and local agencies to participate in defining the alternatives to be evaluated and identifying social, economic, or environmental issues related to the alternatives. Comments on the appropriateness of the alternatives and impact issues are encouraged. Specific suggestions on additional alternatives to be examined and issues to be addressed will be considered in the development of the final study scope. Comments should focus on the issues and alternatives for analysis and not on a preference for a particular alternative. Scoping material will be available at the meetings or in advance of the meetings by contacting Mr. Edward Castellani at JTA or by calling the project staff, as indicated above.

The North/Southeast Corridor Project AA/DEIS follows the completion of a Transportation Alternatives Study (TAS). The TAS study, completed in June 2000, evaluated regional travel corridors and recommended the sequencing of four corridors to be carried forward into more detailed analysis, of which the undertaking of this AA/DEIS is a part. These four corridors include two radial corridors, the North/Southeast and the East/Southwest, and two crosstown corridors, Westside Crosstown and Beaches Crosstown, in that order of priority.

Following the public scoping process, public participation activities will include community meetings and workshops, public hearing(s) on the AA/DEIS, newsletters, and other outreach methods.

Additional background information on the project, the AA/DEIS process, alternatives, and impact issues to be addressed by the AA/DEIS is contained in a document entitled “Scoping Information Booklet.” Copies of the document will be distributed to affected federal, state, regional, and local agencies. The document will also be available at the Scoping Meetings. Others may request the document from Mr. Edward Castellani at the address above.

II. Description of the Study Area and Transportation Needs

The North/Southeast Corridor is an approximate 30-mile radial corridor connecting downtown Jacksonville with the Jacksonville International Airport, Moncrief, Arlington, Southpoint, and Mandarin areas in Duval and St. Johns County. The corridor encompasses geographic areas with the highest number of trips to downtown Jacksonville. The corridor also connects the two largest employment centers with key residential areas via downtown Jacksonville, projected to remain a primary travel shed for the region into the year 2020. The study area also includes the vicinity of ancillary facilities, such as maintenance facilities, associated with each alternative. This study area is generalized and considered flexible, subject both to the outcome of the scoping process and the locations of alternatives studied in detail.

In response to the study area transportation needs, the JTA and FDOT, in cooperation with the First Coast Metropolitan Planning Organization (MPO), conducted a Transportation Alternatives Study (TAS) for the Jacksonville metropolitan area (Transportation Alternatives Study Corridors Evaluation Report, June 19, 2000). The TAS study area included all of Duval County and portions of northern Clay County and St. Johns County to the south.

The TAS evaluated regional travel corridors and recommended sequencing of corridors to be carried forward into more detailed analysis. A significant public involvement program was implemented during the preparation of the TAS, including numerous stakeholder interviews, public meetings and community workshops. The resulting recommended corridors and sequence for analysis included two radial corridors (the North/Southeast and the East/Southwest) and two crosstown corridors (Westside and Beaches). The two radial corridors focus on travel to and through downtown Jacksonville.

The TAS findings resulted in the first sequenced corridor, the North/Southeast corridor, advancing into the AA/DEIS phase. During the course of the AA/DEIS, a more thorough identification of corridor facilities will be performed and potential social, economic and environmental impacts will be evaluated. Additionally, corridor transportation needs will be further analyzed, alternative transportation solutions will be identified and evaluated, and decisions will be made on a proposed locally preferred alternative (LPA).

III. Alternatives

The alternatives proposed for consideration include: (1) The No-Build Alternative, which involves no change to the transportation infrastructure of roads and transit service in the corridor beyond already committed projects; (2) the Transportation System Management/Traffic Demand Management (TSM/TDM) Alternative, which includes all elements of the No-Build Alternative and enhanced bus service and other technology and programs to increase the effectiveness of the existing transportation infrastructure in the corridor. The TSM/TDM Alternative is a low cost alternative that uses existing facilities to the greatest extent possible to meet the identified transportation needs in the study corridor. The TSM/TDM Alternative also provides the baseline against which the cost-effectiveness of capital investments in other alternatives can be evaluated; and (3) the Build Alternatives of Busway/Bus Rapid Transit (BRT), Light Rail Transit (LRT), Commuter Rail, Street and Highway, and combinations of the Build Alternatives. A range of specific alignments will be considered. Additional reasonable Build Alternatives suggested during the scoping process, including those involving other modes, may be considered.

After identification and screening of an initial set of alternatives, a set of promising conceptual alternatives will be identified and will undergo a screening process to reduce them to a set of refined alternatives. Evaluation criteria will include consideration of the local goals and objectives established for the analysis, measures of effectiveness identified during the ongoing scoping process, and criteria established by FTA. A more detailed evaluation of refined alternatives will then be undertaken during the preparation of the AA/DEIS.

IV. Potential Impacts for Analysis

FTA, JTA, and FDOT will evaluate all social, economic and environmental impacts of the alternatives analyzed in the AA/DEIS. Impacts include land use, zoning, and economic development; secondary development; cumulative impacts; land acquisition, displacements, and relocation of existing uses; historic, archaeological, and cultural resources; parklands and recreation areas; visual and aesthetic qualities; neighborhoods and communities; environmental justice; air quality; noise and vibration; hazardous materials; ecosystems; water resources; energy; construction impacts; safety and security; utilities; finance; and transportation impacts. The impacts will be evaluated both for the construction period and for the long-term period of operation of each alternative. Measures to mitigate adverse impacts will be identified.

V. FTA Procedures

An AA/DEIS will be prepared to document the evaluation of the social, economic, and environmental impacts of the alternatives. Upon completion, the AA/DEIS will be available for public and agency review and comment. Public hearing(s) on the AA/DEIS will be held within the study area. On the basis of the AA/DEIS and the public and agency comments received, a locally preferred alternative will be selected and described in full detail in the Final EIS.

Issued on March 9, 2001.
Tom Thomson,
Acting Regional Administrator.

[FR Doc. 01-6371 Filed 3-14-01; 8:45 am]

BILLING CODE 4910-57-P